GENERAL SERVICES ADMINISTRATION

[OMB Control No. 3090-00XX; Docket No. 2010-0002; Sequence 19]

Information Collection; OMB Control No. 3090-00XX; FSRS Registration and Prime Awardee Entity-Related Information Reporting Requirements

AGENCY: Office of Technology Strategy/Office of Governmentwide Policy, General Services Administration (GSA).

ACTION: Notice of request for public comments regarding a new OMB information clearance.

SUMMARY: Under the provisions of the Paperwork Reduction Act of 1995 (44 U.S.C. Chapter 35), the Regulatory Secretariat will be submitting to the Office of Management and Budget (OMB) a request to review and approve an emergency new information collection requirement regarding FSRS Registration and Prime Awardee Entity-Related Information Reporting Requirements.

Public comments are particularly invited on: Whether this collection of information is necessary for the proper performance of functions of the FSRS Registration and Prime Awardee Entity-Related Information Reporting Requirements, whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Submit comments on or before September 21, 2010.

ADDRESSES: Submit comments identified by Information Collection 3090-00XX, FSRS Registration and Prime Awardee Entity-Related Information by any of the following methods:

• Regulations.gov: http://www.regulations.gov. Submit comments via the Federal eRulemaking portal by inputting “Information Collection 3090-XXXX, FSRS Registration and Prime Awardee Entity-Related Information Reporting Requirements” under the heading “Enter Keyword or ID” and selecting “Search”. Select the link “Submit a Comment” that corresponds with “Information Collection 3090-XXXX, FSRS Registration and Prime Awardee Entity-Related Information Reporting Requirements.” Follow the instructions provided at the “Submit a Comment” screen. Please include your name, company name (if any), and “Information Collection 3090-XXXX, FSRS Registration and Prime Awardee Entity-Related Information Reporting Requirements” on your attached document.

• Fax: 202-501-4067.

• Mail: General Services Administration, Regulatory Secretariat (MVCB), 1800 F Street, NW., Room 4041, Washington, DC 20405. ATTN: Hada Flowers/IC 3090-XXXX.

Instructions: Please submit comments only and cite Information Collection 3090-XXXX, FSRS Registration and Prime Awardee Entity-Related Information Reporting Requirements, in all correspondence related to this collection. All comments received will be posted without change to http://www.regulations.gov, including any personal and/or business confidential information provided.

FOR FURTHER INFORMATION CONTACT: Ms. Janice Miller, Program Analyst, Office of Technology Strategy/Office of Governmentwide Policy, GSA, at jan.miller@gsa.gov.

SUPPLEMENTARY INFORMATION:

A. Purpose

The Federal Funding Accountability and Transparency Act of 2006, Public Law 109-282 (Transparency Act) requires information disclosure of entities receiving Federal financial assistance through Federal awards such as Federal contracts, sub-contracts, grants and sub-grants, FFATA section 2(a),(2),(i),(ii). Beginning October 1, 2010, this Paperwork Reduction Act submission directs compliance with the Transparency Act to report prime and first-tier sub-award data. Federal agencies and prime awardees will ensure disclosure of Federal contract and grant sub-award and compensation data. This information collection requires information necessary for prime awardee registration into the FFATA Subaward Reporting System (FSRS) and review of its entity-related information, at http://www.fsrs.gov. An entity may be required to provide information to include:

• DUNS number.

• Name and address of entity.

• Parent DUNS number.

• Federal Award Identification Number (FAIN).

• CFDA Number.

• Federal Awarding Agency of the Grant.

If a prime awardee has already registered in the system to report contracts-related Transparency Act financial data, a new log-in will not be required.

B. Annual Reporting Burden

Respondents: 49,308.

Responses per Respondent: 1.

Hours per Response: .5 hr.

Total Burden Hours: 24,645.

Obtaining Copies of Proposals: Requesters may obtain a copy of the information collection documents from the General Services Administration, Regulatory Secretariat (MVCB), 1800 F Street, NW., Room 4041, Washington, DC 20405, telephone (202) 501-4755. Please cite OMB Control No. 3090-XXXX, FSRS Registration and Prime Awardee Entity-Related Information Reporting Requirements, in all correspondence.

Dated: July 20, 2010.
Daryle M. Seckar,
Acting Chief Information Officer.

[FR Doc. 2010-18136 Filed 7-22-10; 8:45 am]

BILLING CODE 6820-WY-P